DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for and the processing of, exemptions from the Department of Transportation's Hazardous Materials Regulations (49 CFR part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before January 16, 2001.

ADDRESS COMMENTS TO: Records Center, Research and Special Programs, Administration, U.S. Department of Transportation, Washington, DC 20590.

Comments should refer to the application number and be submitted in triplicate. If confirmation of receipt of comments is desired, include a self-addressed stamped envelope showing the exemption application number.

FOR FURTHER INFORMATION: Copies of the applications (See Docket Number) are available for inspection at the New Docket Management Facility, PL-401, at the U.S. Department of Transportation, Nassif Building, 400 7th Street, SW, Washington, DC 20590 or at http://dms.dot.gov.

This notice of receipt of applications for new exemptions is published in accordance with Part 107 of the Federal hazardous materials transportation law (49 U.S.C. 5117(b); 49 CFR 1.53(b)).

Issued in Washington, DC, on December 8, 2000.
J. Suzanne Hedgepeth,
Director, Office of Hazardous Materials Exemptions and Approvals.

New Exemptions
Application No. | Docket No. | Applicant | Regulation(s) affected | Nature of Exemption Thereof
12586-N | RSPA-00-8480 | Wilsonart International Inc., Temple, TX | 49 CFR 174.67 (i) and (j) | To authorize rail cars to remain attached while standing without the physical presence of an unloader. (mode 2)
12587-N | RSPA-00-8481 | Georgia-Pacific Corp., Crossett, AR | 49 CFR 173.31(d)(1)(vi) | To exempt rail cars containing hazardous materials from rupture disc inspection and replacement and marking requirement. (mode 2)
12591-N | RSPA-00-8484 | SGL Carbon, LLC, Morgantown, NC | 49 CFR 174.67 (i) and (j) | To authorize rail cars to remain connected while standing without the physical presence of an unloader. (mode 2)
12592-N | RSPA-00-8483 | Matson Navigation Co., San Francisco, CA | 49 CFR 176.905 | To authorize the transportation in commerce of combustion-powered motor vehicles in freight containers in cargo vessel holds that are not ventilated. (mode 3)

[FR Doc. 00-31932 Filed 12-13-00; 8:45 am]

BILLING CODE 4910-60-M